DEPARTMENT OF HOMELAND SECURITY

Coast Guard

33 CFR Part 117

[USCG-2014-0024]

Drawbridge Operation Regulations; Newtown Creek, Dutch Kills, English Kills and Their Tributaries, New York City, NY

AGENCY: Coast Guard, DHS.

ACTION: Notice of temporary deviation from regulations.

SUMMARY: The Commander, First Coast Guard District, has issued a temporary deviation from the regulations governing the operation of the Greenpoint Avenue Bridge, across Newtown Creek, mile 1.3, at New York City, New York. The deviation is necessary to facilitate bridge painting operations at the bridge. This temporary deviation authorizes the Greenpoint Avenue Bridge to remain in the closed position for up to six consecutive days followed by four consecutive days of full operation at various times during the effective period of this deviation.

DATES: This deviation is effective from May 1, 2014 through September 30, 2014.

ADDRESSES: The docket for this deviation, [USCG-2014-0024] is available at http://www.regulations.gov. Type the docket number in the “SEARCH” box and click “SEARCH.” Click on Open Docket Folder on the line associated with this deviation. You may also visit the Docket Management Facility in Room W12-140, on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Judy Leung-Yee, Project Officer, First Coast Guard District, judy.k.leung-yee@uscg.mil, or (212) 668-7165. If you have questions on viewing the docket, call Cheryl Collins, Program Manager, Docket Operations, telephone 202-366-9826.

SUPPLEMENTARY INFORMATION: The Greenpoint Avenue Bridge, across Newtown Creek, mile 1.3, at New York City, New York, has a vertical clearance in the closed position of 26 feet at mean high water and 31 feet at mean low water. The existing drawbridge operation regulations are listed at 33 CFR 117.801(g).

The waterway is transited by commercial and seasonal recreational vessels of various sizes.

The bridge owner, New York City Department of Transportation, requested approval to allow the Greenpoint Avenue Bridge to remain in the closed position for up to six consecutive days followed by four days of full operation to facilitate bridge sandblasting and painting operations. The bridge painting closures can only be implemented between May and September in order to minimize impacts to commercial barge traffic carrying home heating oil upstream. The Coast Guard contacted all known commercial waterway users regarding this deviation and no objections were received.

Under this temporary deviation the draw of the Greenpoint Avenue Bridge may remain in the closed position at various times during this deviation for up to six consecutive days followed by four days of full bridge operation.

Each six day closure will be announced two weeks in advance in the Local Notice to Mariners (LNTM) along with a Broadcast Notice to Mariners (BNTM) to help facilitate marine transportation system planning.

In accordance with 33 CFR 117.35(e), the bridge must return to its regular operating schedule immediately at the end of the designated time period. This deviation from the operating regulations is authorized under 33 CFR 117.35.

Dated: February 11, 2014.
C.J. Bisignano,
Supervisory Bridge Management Specialist, First Coast Guard District.

[FR Doc. 2014-04373 Filed 2-27-14; 8:45 am]

BILLING CODE 9110-04-P